DEPARTMENT OF HOUSING AND URBAN DEVELOPMENT

[Docket No. FR-5130-N-13]

Privacy Act; Proposed New System of Records, Correspondence Tracking System (CTS)

AGENCY: Office of the Chief Information Officer, HUD.

ACTION: Establish a new Privacy Act System of Records.

SUMMARY: HUD proposes to establish a new records system to add to its inventory of systems of records subject to the Privacy Act of 1974 (5 U.S.C. 552a), as amended. The proposed new system of records is the Correspondence Tracking System, (CTS), HUD/ADM-09, which will replace HUD's legacy Secretary's Correspondence Control System, also known as the “Automated Correspondence On-line Response Network” (ACORN) system. The Department will use the new records system to monitor the status of both correspondence internal to the Department and that received from external sources. It will also be used by the Department to execute, prioritize, and expedite the correspondence workflow more effectively.

DATES: Effective Date: This action shall be effective without further notice on October 31, 2007 unless comments are received during or before this period that would result in a contrary determination.

Comments Due Date: October 31, 2007.

ADDRESSES: Interested persons are invited to submit comments regarding this notice to the Rules Docket Clerk, Office of General Counsel, Department of Housing and Urban Development, 451 Seventh Street, SW., Room 10276, Washington, DC 20410-0500. Communications should refer to the above docket number and title. A copy of each communication submitted will be available for public inspection and copying between 8 a.m. and 5 p.m. weekdays at the above address.

FOR FURTHER INFORMATION CONTACT: The Departmental Privacy Act Officer, 451 Seventh Street, SW., Room 4178, Washington, DC 20410, telephone number (202) 708-2374, or the System Owner, Executive Secretary, Office of the Executive Secretariat, Department of Housing and Urban Development, 451 Seventh Street, SW., Room 10139, Washington, DC 20410, telephone number (202) 708-3054. (These are not toll-free numbers.) A telecommunication device for hearing- and speech-impaired individuals (TTY) is available at (800) 877-8339 (Federal Information Relay Service).

SUPPLEMENTARY INFORMATION: Title 5 U.S.C. 552a(e)(4) and (11) provide that the public be afforded a 30-day period in which to comment on the new system of records, and require published notice of the existence and character of the system of records.

The new system report was submitted to the Office of Management and Budget (OMB), the Senate Committee on Homeland Security and Governmental Affairs, and the House Committee on Oversight and Government Reform pursuant to paragraph 4c of Appendix 1 to OMB Circular No. A-130, “Federal Responsibilities for Maintaining Records About Individuals,” July 25, 1993 (58 FR 36075, July 2, 1993).

Authority: 5 U.S.C. 552a.

Dated: September 21, 2007.
Walter S. Harris,
Deputy Chief Information Officer for Strategic Planning and Policy.

HUD/ADM-09

SYSTEM NAME:

Correspondence Tracking System (CTS).

SYSTEM LOCATION:

Headquarters and field offices.

CATEGORIES OF INDIVIDUALS COVERED BY THE SYSTEM:

(a) Individuals who correspond with the Secretary, Deputy Secretary, Assistant Secretaries, or Field Office officials, (b) Individuals whose correspondence has been referred by the White House, other federal agencies, or Members of Congress to the Secretary, Deputy Secretary, Assistant Secretaries, or Field Office officials for response, (c) Individuals who correspond with departmental staff, and (d) departmental staff creating inter-office correspondence and correspondence for signature and dispatch outside of the agency.

CATEGORIES OF RECORDS IN THE SYSTEM:

Correspondence identification (Correspondent's name, address, state, district, organization, title, control number, return address, date of letter, subject, description); status of response within the Department (office assigned, date due, current disposition); may include original correspondence, Department's response, referral letters, name and identification of person referring the correspondence, and copies of any enclosures.

AUTHORITY FOR MAINTENANCE OF THE SYSTEM:

Section 7(d) of the Department of Housing and Urban Development Act of 1965, Pub. L. 89-174.

PURPOSE:

To accurately report and monitor the status of correspondence both internal and external to the Department.

ROUTINE USES OF RECORDS MAINTAINED IN THE SYSTEM, INCLUDING CATEGORIES OF USERS AND THE PURPOSES OF SUCH USES:

In addition to those disclosures generally permitted under 5 U.S.C. 552a (b) of the Privacy Act, other routine uses are: None.

POLICIES AND PRACTICES FOR STORING, RETRIEVING, ACCESSING, RETAINING, AND DISPOSING OF RECORDS IN THE SYSTEM:

STORAGE:

On CTS hardware storage, on backup computer drives, and, in some cases, file folders.

RETRIEVABILITY:

State, district, control number, name of correspondent, name of person referring correspondence, date of letter, subject of letter, office assigned, date due, current disposition, address, telephone number, e-mail address.

SAFEGUARDS:

Computer records are maintained in a secure area with access restricted to authorized personnel; manual files are kept in folders in lockable file cabinets and accessed only by authorized personnel. Security and hardware storage of backup materials (i.e. disk, tapes, etc.) are secured in accordance with HUD-wide guidance for handling and securing HUD data systems and the Electronic Data System's (EDS) standard procedure guide for maintaining data and system security.

RETENTION AND DISPOSAL:

All computerized information is maintained on system hardware in accordance with CTS retention schedule, then is archived and stored in a secure location or destroyed or turned over to the National Archives and Records Administration based on the agency's electronic records management schedules. All manual files are maintained for 2 years and then are retained/disposed of in accordance with HUD Handbook 2225.6, HUD Records Schedules, Schedule 62.

System manager(s) and address:

Executive Secretary, Office of the Executive Secretariat, Department of Housing and Urban Development, 451 Seventh Street, SW., Room 10139, Washington, DC 20410.

Notification procedure:

For information, assistance, or inquiry about existence of records, contact the Departmental Privacy Act Officer at the Department of Housing and Urban Development, 451 Seventh Street, SW., Room 4178, Washington, DC 20410, in accordance with 24 CFR part 16.

Record access procedures:

The Department's rules for providing access to records to the individual concerned appear in 24 CFR part 16. If additional information or assistance is required, contact the Departmental Privacy Act Officer at the above location.

Contesting record procedures:

Procedures for amendment or correction of records, and procedures for applicants who want to appeal initial agency determinations appear in 24 CFR part 16. If additional information or assistance is needed contact:

(i) In relation to contesting the contents of records, the Departmental Privacy Act Officer at HUD, 451 Seventh Street, SW., Room 4178, Washington, DC 20410; and,

(ii) In relation to appeals of initial denials, the Departmental Privacy Appeals Officer, Office of General Counsel, Department of Housing and Urban Development, 451 Seventh Street, SW., Washington, DC 20410.

Record source categories:

Subject, referral source, departmental employees involved in processing the correspondence.

Exemptions from certain provisions of the Act:

“None”.

[FR Doc. E7-19287 Filed 9-28-07; 8:45 am]

BILLING CODE 4210-67-P